DEPARTMENT OF STATE

[Public Notice: 7403]

U.S. Department of State Advisory Committee on Private International Law (ACPIL); Notice of Public Meeting of Its Study Group on the Hague Convention on Choice of Court Agreements

The Office of the Assistant Legal Adviser for Private International Law, Department of State, hereby gives notice of a public meeting of the ACPIL Study Group on the Hague Convention on Choice of Court Agreements. The meeting will take place on June 15, 2011 from 9 a.m. to 2 p.m. EDT at the Department of State, Washington, DC. This is not a meeting of the full Advisory Committee. The Study Group will meet to discuss the draft Federal legislation that has been developed to implement the Convention. It is proposed that the Federal legislation would work in tandem with uniform State law, developed by the Uniform Law Commission, as may be enacted by individual States. Where a State did not enact the uniform State law, or in the event of any inconsistency between the Federal law and the uniform State law as enacted, the Federal law would apply. Prior to the Study Group meeting, we will send out the latest Federal and State drafts to all those who indicate that they intend to attend the meeting or participate by telephone or who otherwise express an interest in commenting on the draft Federal text.

Time and Place: The meeting will take place on June 15th from 9 a.m. to 2 p.m. EDT at the Office of the Assistant Legal Adviser for Private International Law, Department of State, Washington, DC. Participants should appear by 8:45 a.m. at the C Street gate to Navy Hill, corner of C Street, NW., and 23rd Street, NW.

Public Participation: This Study Group meeting is open to the public, subject to the capacity of the meeting room. Access to the meeting building is controlled; persons wishing to attend should contact Tricia Smeltzer or Niesha Toms of the Department of State Legal Adviser's Office at SmeltzerTK@state.gov or TomsNN@state.gov and provide your name, affiliation, e-mail address, and mailing address. Data from the public is requested pursuant to Public Law 99-399 (Omnibus Act of 1986) as amended; Public Law 107-56 (USA PATRIOT ACT): and Executive Order 13356. The primary purpose for collecting is to validate the identity of individuals who enter Department facilities. Please see the Privacy Impact Assessment for VACS-D at http://www.state.gov/documents/organization/100305.pdf for additional information. Persons who cannot participate in the meeting but who wish to comment on the draft Federal implementing legislation are welcome to do so by e-mail to Keith Loken at lokenk@state.gov. A member of the public needing reasonable accommodation should advise the contact persons identified above not later than June 8th. Requests made after that date will be considered, but might not be able to be fulfilled. If you are unable to attend the public meeting in person and would like to participate by teleconferencing, please contact Tricia Smeltzer or Niesha Toms at 202-776-8420 to receive the conference call-in number and the relevant information.

Dated: April 28, 2011.
Keith Loken,
Assistant Legal Adviser, Office of Private International Law, Office of the Legal Adviser, Department of State.

[FR Doc. 2011-11120 Filed 5-5-11; 8:45 am]

BILLING CODE 4710-08-P